ENVIRONMENTAL PROTECTION AGENCY

[EPA-HQ-OPP-2009-0045; FRL-8426-7]

Notice of Receipt of Several Pesticide Petitions Filed for Residues of Pesticide Chemicals in or on Various Commodities

AGENCY: Environmental Protection Agency (EPA).

ACTION: Notice.

SUMMARY: This notice announces the Agency’s receipt of several initial filings of pesticide petitions proposing the establishment or modification of regulations for residues of pesticide chemicals in or on various commodities.

DATES: Comments must be received on or before September 18, 2009.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of these petitions so that the public has an opportunity to comment on these requests for the establishment or modification of regulations for residues of pesticides in or on food commodities. Further information on the petitions may be obtained through the petition summaries referenced in this unit.

New Tolerances

1. PP 9E7544. (EPA-HQ-OPP-2009-0289). The Interregional Research Project Number 4 (IR-4), IR-4 Project Headquarters, 500 College Rd. East, Suite 201 W, Princeton, NJ 08540, proposes to establish a tolerance in 40 CFR part 180 for residues of the insecticide acetamiprid, N1-[(6-chloro-3-pyridyl)methyl]- N2-cyano-N1-methylacetamidine, in or on fruit, small, vine climbing, except fuzzy kiwifruit, subgroup 13-07F at 0.35 parts per million (ppm); and tolerances with regional restrictions for clover, forage at 0.10 ppm; clover, hay at 0.01 ppm; and tea at 50 ppm. Based upon the metabolism of acetamiprid in plants and the toxicology of the parent and metabolites, quantification of the parent acetamiprid is sufficient to determine toxic residues. As a result a method has been developed which involves extraction of acetamiprid from crops with methanol and analysis by liquid chromatography/mass spectrometry/mass spectrometry (LC/MS/MS) methods. The limit of quantification (LOQ) and the limit of detection (LOD) for the method are calculated to be 0.0076 ppm and 0.0025 ppm for clover forage, respectively while the LOQ and the LOD for the method for clover hay are calculated to be 0.0082 ppm and 0.0027 ppm, respectively. The LOQ and LOD for grape are calculated to be 0.0064 ppm and 0.0021 ppm, respectively. The LOQ and LOD for greenhouse-grown tomatoes were 0.0075 ppm and 0.0025, respectively. Contact: Laura Nollen, (703) 305-7390; nollen.laura@epa.gov.

2. PP 9E7550. (EPA-HQ-OPP-2009-0943). Bayer CropScience, LP, P.O. Box 12014, 2 T.W. Alexander Dr., Research Triangle Park, NC 27709-2014, proposes to establish a tolerance in 40 CFR part 180 for residues of the insecticide ethiprole; 1 H-pyrazole-3-carbonitrile, 5-amino-1-[2,6-dichloro-4-(trifluromethyl)phenyl]-4-(ethylsulfinyl), and its sulfones metabolite (RPA 097973), 5-amino-1-(2,6-dichloro-4-trifluoromethylphenyl)-4-ethylsulfonylpyrazole-3-carbonitrile, expressed as parent equivalent in or on imported tea (dried and instant) at 50 ppm; imported rice (grain and bran) at 3.0 ppm; meat (cattle, goat, hog, horse, sheep) at 0.01 ppm; fat (cattle, goat, hog, horse, sheep) at 0.1 ppm; liver (cattle, goat, hog, horse, sheep) at 0.1 ppm; meat by-products, except liver (cattle, goat, hog, horse, sheep) at 0.02 ppm; milk at 0,01 ppm; milk, fat at 0.1 ppm; poultry, meat at 0.01 ppm; poultry, fat at 0.1 ppm; poultry, meat by-products at 0.05 ppm; and eggs at 0.05 ppm. Practical enforcement analytical methods for detecting and measuring levels of ethiprole and its sulfones metabolite have been developed and validated in/on all appropriate plant and animal matrices. For plants, extraction using acetonitrile/water (9/1, v/v) is followed by LC/MS/MS quantification Multiple Reaction Monitoring (MRM) mode. The LOQ for enforcement purposes is 0.002 mg/kg expressed as parent equivalents in the rice matrices and 0.02 mg/kg in tea. For animals, extraction using 80:20 acetonitrile/deionized water is followed by oxidation with 34 percent peracetic acid that converts ethiprole to RPA97973, with quantification by gas chromatography/electron capture detection (GC/ECD). The LOQ for all animal commodities is 0.01 mg/kg. Contact: Carmen Rodia, (703) 306-0327; rodia.carmen@epa.gov.

3. PP 9E7570. (EPA-HQ-OPP-2009-0032). IR-4, IR-4 Project Headquarters, 500 College Rd. East, Suite 201 W, Princeton, NJ 08540, proposes to establish a tolerance in 40 CFR part 180 for residues of the fungicide fluazinam, 3-chloro-N -[3-chloro-2,6-dinitro-4-(trifluoromethyl) phenyl]-5-(trifluoromethyl)-2-pyridinamine in or on carrot, root at 0.8 ppm. An analytical method using gas chromatography with electron capture detection (GC-ECD) for the determination of fluazinam residues on carrots has been developed and validated. The method involves solvent extraction followed by liquid-liquid partitioning and concentration prior to a final purification using column chromatography. The method has been successfully validated by an independent laboratory using peanut nutmeat as the matrix. The LOQ of the method is 0.02 ppm in carrot. Contact: Laura Nollen, (703) 305-7390; nollen.laura@epa.gov.

4. PP 8F7420. (EPA-HQ-OPP-2009-0276). BASF Corporation, P.O. Box 13528, Research Triangle Park, NC 27709-3528, proposes to establish a tolerance in 40 CFR part 180 for residues of the fungicide triticonazole in or on cereal grains (except rice), Crop group 15 at 0.05 ppm; cereal grains (except rice), forage, fodder, and hay, Crop group 16 at 0.10 ppm. The method of analysis included extraction and LC/MS/MS quantitation. Contact: Bryant Crowe, (703) 305-0025; crowe.bryant@epa.gov.

5. PP 8F7449. (EPA-HQ-OPP-2008-0814). Syngenta Crop Protection, Inc., PO Box 18300, Greensboro, NC 27419, proposes to establish a tolerance in 40 CFR part 180 for residues of the insecticide thiamethoxam, 3-[(2-chloro-5-thiazolyl)methyl]tetrahydro-5-methyl-N-nitro-4H-1,3,5-oxadiazin-4-imine (CAS Reg. No. 153719-23-4) and its metabolite N-(2-chloro-thiazol-5-ylmethyl)-N’-methyl-N’-nitro-guanidine in or on rice, grain at 0.02 ppm; rice, straw at 0.02 ppm; rice, bran at 0.02 ppm; rice, polished at 0.02 ppm; and rice, hulls at 0.1 ppm. Syngenta Crop Protection, Inc. has submitted practical analytical methodology for detecting and measuring levels of thiamethoxam in or on raw agricultural commodities. This method is based on crop specific cleanup procedures and determination by liquid chromatography with either ultraviolet (UV) or mass spectrometry (MS) detections. The LOD for each analyte of this method is 1.25 nanograms (ng) injected for samples analyzed by UV and 0.25 ng injected for samples analyzed by MS, and the LOQ is 0.005 ppm for milk and juices, and 0.01 ppm for all other substrates. Contact: Julie Chao, (703) 308-8735; chao.julie@epa.gov.

6. PP 8F7485. (EPA-HQ-OPP-2009-0279). Bayer CropScience, P.O. Box 12014, 2 T.W. Alexander Drive, Research Triangle Park, NC 27709, proposes to establish a tolerance in 40 CFR part 180 for residues of the fungicide prothioconazole and prothioconazole-desthio in or on grain, cereal, group 15, except sweet corn, sorghum, and rice at 0.35 ppm; forage, cereal, group 16, except sweet corn, sorghum, and rice at 8.0 ppm; stover, cereal, group 16, except sweet corn, sorghum, and rice at 10 ppm; hay, cereal, group 16, except sweet corn, sorghum, and rice at 7.0 ppm; straw, cereal, group 16, except sweet corn, sorghum, and rice at 5.0 ppm; corn, sweet, forage at 7 ppm; corn, sweet, stover at 8 ppm; and corn, sweet, kernel plus cob with husks removed at 0.02 ppm. The analytical method for determining residues of concern in plants extracts residues of prothioconazole and JAU6476-desthio and converts the prothioconazole to JAU6476-desthio and JAU6476-sulfonic acid. Following addition of internal standards the sample extracts are analyzed by LC/MS/MS. Radiovalidation and independent laboratory validation have shown that the method adequately quantifies prothioconazole residues in treated commodities. The analytical method for analysis of large animal tissues includes extraction of the residues of concern, followed by addition of an internal standard to the extract. The extract is then hydrolyzed to release conjugates, partitioned and analyzed by LC/MS/MS as prothioconazole, JAU6476-desthio and JAU6476-4-hydroxy. The method for analysis of milk eliminated the initial extraction step in the tissue method. Contact: Bryant Crowe, (703) 305-0025; crowe.bryant@epa.gov.

7. PP 9F7529. (EPA-HQ-OPP-2009-0268). BASF Corporation, Research Triangle Park, NC 27709, proposes to establish a tolerance in 40 CFR part 180 for residues of the fungicide boscalid (BAS 510F); [3-pyridinecarboxamide, 2-chloro-N-(4'-chloro(1,1'-biphenyl)-2-yl)-] in or on alfalfa, forage at 35 ppm; alfalfa, hay at 85 ppm; and citrus, Crop group 10 at 2 ppm. In plants, the parent residue is extracted using an aqueous organic solvent mixture followed by liquid/liquid partitioning and a column clean up. Quantitation is by gas chromatography using gas chromatography/mass spectrometry (GC/MS). In livestock the residues are extracted with methanol. The extract is treated with enzymes in order to release the conjugated glucuronic acid metabolite. The residues are then isolated by liquid/liquid partition followed by column chromatography. The hydroxylated metabolite is acetylated followed by a column clean-up. The parent and acetylated metabolite are quantitated by GC with electron capture detection (GC/ECD). Contact: Bryant Crowe, (703) 305-0025; crowe.bryant@epa.gov.

8. PP 9F7549. (EPA-HQ-OPP-2009-0325). Gowan Company, 370 South Main St., Yuma, AZ 85364, proposes to establish tolerances in 40 CFR part 180 for residues of the insecticide hexythiazox, trans-5-(4-chlorophenyl)-N-cyclohexyl-4-methyl-2-oxothiazolidine-3-carboxamide and its metabolites containing the (4-chlorophenyl)-4-methyl-2-oxo-3-thiazolidine moiety in or on corn, sweet kernel plus cob with husk removed at 0.1 ppm; corn, sweet, forage at 3 ppm; beans, dried at 0.4 ppm; and beans, succulent at 0.4 ppm. These proposed tolerances are geographically limited to Western regions of the United States. A practical analytical method, high pressure liquid chromatography with an ultraviolet detector, which detects and measures residues of hexythiazox and its metabolites as a common moiety, is available for enforcement purposes with a limit of detection that allows monitoring of food with residues at or above the levels set in these tolerances. Contact: Olga Odiott, (703) 308-9369; odiott.olga@epa.gov.

9. PP 9F7571. (EPA-HQ-OPP-2009-0032). ISK Biosciences Corporation, 7470 Auburn Rd., Suite A, Concord, OH 44077, proposes to establish a tolerance in 40 CFR part 180 for residues of the fungicide fluazinam, 3-chloro-N-[3-chloro-2,6-dinitro-4-(trifluoromethyl) phenyl]-5-(trifluoromethyl)-2-pyridinamine, and the metabolite AMGT, 3-[[4-amino-3-[[3-chloro-5-(trifloromethyl)-2-pyridinyl]amino]-2-nitro-6-(trifluoromethyl) phenyl] thio]-2-(beta-D-glucopyranosyloxy) propionic acid, in or on apple at 1.7 ppm and apple, pomace, wet, at 5.0 ppm; and by establishing tolerances for the combined residues of fluazinam and its metabolites, DAPA and AMPA in the following animal tissues and meat byproducts: cattle, fat at 0.03 ppm; cattle, kidney at 0.03 ppm; cattle, liver at 0.03 ppm; cattle, meat at 0.03 ppm; cattle, meat byproducts at 0.03 ppm; goat, fat at 0.03 ppm; goat, kidney at 0.03 ppm; goat, liver at 0.03 ppm; goat, meat at 0.03 ppm; goat, meat byproducts at 0.03 ppm; horse, fat at 0.03 ppm; horse, kidney at 0.03 ppm; horse, liver at 0.03 ppm; horse, meat at 0.03 ppm; horse, meat byproducts at 0.03 ppm; milk at 0.03 ppm; sheep, fat at 0.03 ppm; sheep, kidney at 0.03 ppm; sheep, liver at 0.03 ppm; sheep, meat at 0.03 ppm; and sheep, meat byproducts at 0.03 ppm. An analytical method using gas chromatography with electron capture detection (GC-ECD) for the determination of fluazinam residues on apples has been developed and validated. The method involves solvent extraction followed by liquid-liquid partitioning and concentration prior to a final purification using column chromatography. The method has been successfully validated by an independent laboratory using peanut nutmeat as the matrix. The LOQ of the method is 0.01 ppm in apple. AMGT was analyzed using a separate sample or aliquot of extract with a high performance liquid chromatography-ultraviolet (HPLC-UV) detection system. Contact: John Bazuin, (703) 305-7381; bazuin.john@epa.gov.

Amended Tolerance

1. PP 9E7544. (EPA-HQ-OPP-2009-0289). IR-4, IR-4 Project Headquarters, 500 College Rd. East, Suite 201 W, Princeton, NJ 08540, proposes to delete the existing tolerance for grapes at 0.20 ppm in 40 CFR 180.578 for residues of the insecticide acetamiprid, N1-[(6-chloro-3-pyridyl)methyl]- N2-cyano-N1-methylacetamidine, since it will be superseded by the proposed tolerance on subgroup 13-07F under “New Tolerance” item 1, PP 9E7544 of this document. Contact: Laura Nollen, (703) 305-7390; nollen.laura@epa.gov.

2. PP 8F7449. (EPA-HQ-OPP-2008-0814). Syngenta Crop Protection, Inc., PO Box 18300, Greensboro, NC 27419, proposes to increase existing tolerances in 40 CFR 180.565 for residues of the insecticide thiamethoxam, 3-[(2-chloro-5-thiazolyl)methyl]tetrahydro-5-methyl-N-nitro-4H-1,3,5-oxadiazin-4-imine (CAS Reg. No. 153719-23-4) and its metabolite N-(2-chloro-thiazol-5-ylmethyl)-N’-methyl-N’-nitro-guanidine in or on cattle, meat byproducts from 0.02 ppm to 0.04 ppm; goat, meat byproducts from 0.02 ppm to 0.04 ppm; horse, meat byproducts from 0.02 ppm to 0.04 ppm; sheep, meat byproducts from 0.02 ppm to 0.04 ppm; and vegetable, root, except sugarbeet, subgroup 1B from 0.02 ppm to 0.05 ppm. Syngenta Crop Protection, Inc. has submitted practical analytical methodology for detecting and measuring levels of thiamethoxam in or on raw agricultural commodities. This method is based on crop specific cleanup procedures and determination by liquid chromatography with either UV or mass spectrometry (MS) detections. The LOD for each analyte of this method is 1.25 ng injected for samples analyzed by UV and 0.25 ng injected for samples analyzed by MS, and the LOQ is 0.005 ppm for milk and juices, and 0.01 ppm for all other substrates. Contact: Julie Chao, (703) 308-8735; chao.julie@epa.gov.

3. PP 8F7487. (EPA-HQ-OPP-2009-0278). Bayer CropScience, 2 T.W. Alexander Drive, P.O. Box 12014, Research Triangle Park, NC 27709, proposes to increase existing tolerances in 40 CFR 180.555 for residues of the fungicide trifloxystrobin, benzeneacetic acid, (E,E)-α-(methoxyimino)-2-[[[[1-[3- (trifluoromethyl) phenyl]ethylidene]amino]oxy]methyl]-methyl ester and the free form of its acid metabolite CGA-321113 ((E,E)-methoxyimino-[2-[1-(3-trifluoromethyl-phenyl)-ethylideneaminooxymethyl]-phenyl]acetic acid in or on corn, field, forage from 0.2 ppm to 6.0 ppm; corn, sweet, forage from 0.6 ppm to 7.0 ppm; and corn, sweet, stover from 0.25 ppm to 4.0 ppm. A practical analytical methodology for detecting and measuring levels of trifloxystrobin in or on raw agricultural commodities has been submitted. The LOD for each analyte of this method is 0.08 ng injected, and the LOQ is 0.02 ppm. The method is based on crop specific cleanup procedures and determination by gas chromatography with nitrogen-phosphorus detection. A newer analytical method employing identical solvent mixtures and solvent to matrix ratio (as the first method), deuterated internal standards, and LC/MS-MS with an electrospray interface, operated in the positive ion mode is available. The LOD range from 0.0019 ppm to 0.0034 ppm for corn matrices and the limit of quantitation is 0.01 ppm. Contact: Bryant Crowe, (703) 305-0025; crowe.bryant@epa.gov.

4. PP 9F7529. (EPA-HQ-OPP-2009-0268). BASF Corporation, Research Triangle Park, NC 27709, proposes to increase existing tolerances in 40 CFR 180.589 for residues of the fungicide boscalid (BAS 510F); 3-pyridinecarboxamide, 2-chloro-N-(4'-chloro(1,1'-biphenyl)-2-yl) in or on fruit, stone, Crop group 12 from 1.7 ppm to 5 ppm. In plants, the parent residue is extracted using an aqueous organic solvent mixture followed by liquid/liquid partitioning and a column clean up. Quantitation is by gas chromatography using gas chromatography/mass spectrometry (GC/MS). In livestock the residues are extracted with methanol. The extract is treated with enzymes in order to release the conjugated glucuronic acid metabolite. The residues are then isolated by liquid/liquid partition followed by column chromatography. The hydroxylated metabolite is acetylated followed by a column clean-up. The parent and acetylated metabolite are quantitated by GC with electron capture detection (GC/ECD). Contact: Bryant Crowe, (703) 305-0025; crowe.bryant@epa.gov.

5. PP 9F7556. (EPA-HQ-OPP-2009-0325). Gowan Company, 370 South Main St., Yuma, AZ 85364, proposes to amend existing tolerances in 40 CFR 180.448 for residues of the insecticide hexythiazox, trans-5-(4-chlorophenyl)-N-cyclohexyl-4-methyl-2-oxothiazolidine-3-carboxamide and its metabolites containing the (4-chlorophenyl)-4-methyl-2-oxo-3-thiazolidine moiety in or on grape from 0.75 ppm to 1.0 ppm; plum from 0.10 ppm to 1.0 ppm; and the processed commodity plum, prune, dried from 0.40 ppm to 1.0 ppm. A practical analytical method, high pressure liquid chromatography with an ultraviolet detector, which detects and measures residues of hexythiazox and its metabolites as a common moiety, is available for enforcement purposes with a limit of detection that allows monitoring of food with residues at or above the levels set in these tolerances. Contact: Olga Odiott, (703) 308-9369; odiott.olga@epa.gov.

New Tolerance Exemption

PP 9E7572. (EPA-HQ-OPP-2009-0043). Joint Inerts Task Force, Cluster Support Team 11, EPA Co. No. 84944, c/o CropLife America, 1156 15th St., NW., Suite 400, Washington, DC 20005, proposes to establish an exemption from the requirement of a tolerance under 40 CFR 180.910 for residues of sodium and ammonium naphthalenesulfonate formaldehyde condensates, including: CAS Reg. Nos. 68425-94-5 (residues, petroleum, catalytic reformer fractionator, sulfonated, polymers with formaldehyde, sodium salts), 9069-80-1 (naphthalenesulfonic acid, ammonium salt polymer with formaldehyde), 9084-06-4 (naphthalenesulfonic acid, polymer with formaldehyde, sodium salt), 36290-04-7 (2-naphthalenesulfonic acid, polymer with formaldehyde, sodium salt), 91078-68-1 (naphthalenesulfonic acids, reaction products with formaldehyde, sodium salts), 141959-43-5 (naphthalenesulfonic acid, methyl-sodium salt with formaldehyde), and 9008-63-3 (naphthalenesulfonic acid, sodium salt polymer with formaldehyde) when used as pesticide inert ingredients in pesticide formulations. Because this petition is a request for an exemption from the requirement of a tolerance, no analytical method is required. Contact: Elizabeth Fertich, (703) 347-8560; fertich.elizabeth@epa.gov.

List of Subjects

Environmental protection, Agricultural commodities, Feed additives, Food additives, Pesticides and pests, Reporting and recordkeeping requirements.

Dated: August 5, 2009.
G. Jeffrey Herndon,
Acting Director, Registration Division, Office of Pesticide Programs.

[FR Doc. E9-19518 Filed 8-18-09; 8:45 am]

BILLING CODE 6560-50-S